DEPARTMENT OF LABOR

Employment and Training Administration

[TA-W-64,929]

Pfizer Global Manufacturing, a Subsidiary of Pfizer Inc., Terre Haute, IN; Notice of Termination of Investigation

Pursuant to Section 221 of the Trade Act of 1974, as amended, an investigation was initiated on January 22, 2009 in response to a petition filed on behalf of the workers of Pfizer Global Manufacturing, a subsidiary of Pfizer, Terre Haute, Indiana.

The petitioner has requested that the petition be withdrawn. Consequently, the investigation has been terminated.

Signed at Washington, DC, this 24th day of March 2009.
Linda G. Poole,
Certifying Officer, Division of Trade Adjustment Assistance.

[FR Doc. E9-8274 Filed 4-10-09; 8:45 am]

BILLING CODE 4510-FN-P